CONSUMER PRODUCT SAFETY COMMISSION

[Petition HP 06-1]

Petition Requesting Ban on Lead Toy Jewelry

AGENCY: Consumer Product Safety Commission.

ACTION: Notice.

SUMMARY: The United States Consumer Product Safety Commission (Commission or CPSC) has received a petition (HP 06-1) requesting that the Commission ban toy jewelry containing more than 0.06% lead. The Commission solicits written comments concerning the petition.

DATES: The Office of the Secretary must receive comments on the petition by August 21, 2006.

ADDRESSES: Comments on the petition may be filed by e-mail to cpsc-os@cpsc.gov. Comments may also be filed by facsimile to (301) 504-0127, or delivered or mailed, preferably in five copies, to the Office of the Secretary, Consumer Product Safety Commission, 4330 East West Highway, Bethesda, MD 20814, telephone (301) 504-7923. Comments should be captioned “Petition HP 06-1, Petition Requesting Ban on Lead Toy Jewelry.” The petition is available on the CPSC Web site at http://www.cpsc.gov. A request for a hard copy of the petition may be directed to the Office of the Secretary.

FOR FURTHER INFORMATION CONTACT: Rockelle Hammond, Office of the Secretary, Consumer Product Safety Commission, 4330 East West Highway; telephone (301) 504-6833, e-mail rhammond@cpsc.gov.

SUPPLEMENTARY INFORMATION: The Commission has received correspondence from the Sierra Club requesting that the Commission classify toy jewelry containing more than 0.06% lead as a banned hazardous substance under the Federal Hazardous Substances Act (FHSA). The request for a ban on toy jewelry containing more than 0.06% lead was docketed as petition number HP 06-1 under the Federal Hazardous Substances Act, 15 U.S.C. 1261-1278.

The Sierra Club states that the Commission should adopt regulations declaring that any toy jewelry containing more than 0.06% lead by weight for which there is a reasonably foreseeable possibility that children could ingest be declared a banned hazardous substance under the FHSA. The Sierra Club also states that the 0.06% level may not be low enough to protect children and should be an interim step until a determination of a more appropriate cutoff is made. In addition, the Sierra Club asserts that it believes that toy jewelry is any item that serves a decorative but no or minimal functional purpose that is valued at less than $20 per item. According to the Sierra Club, people are less likely to store such low-cost jewelry in secure containers or out of reach from children.

Interested parties may obtain a copy of the petition on the CPSC Web site at http://www.cpsc.gov or by writing or calling the Office of the Secretary, Consumer Product Safety Commission, 4330 East West Highway, Bethesda, MD 20814; telephone (301) 504-7923.

Dated: June 14, 2006.
Todd A. Stevenson,
Secretary, Consumer Product Safety Commission.

[FR Doc. E6-9658 Filed 6-19-06; 8:45 am]

BILLING CODE 6355-01-P